DEPARTMENT OF COMMERCE

International Trade Administration

Initiation of Antidumping and Countervailing Duty Administrative Reviews

AGENCY: Import Administration, International Trade Administration, Department of Commerce.

SUMMARY: The Department of Commerce (“the Department”) has received requests to conduct administrative reviews of various antidumping and countervailing duty orders and findings with October anniversary dates. In accordance with the Department's regulations, we are initiating those administrative reviews.

DATES: Effective Date: November 29, 2010.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with October anniversary dates.

All deadlines for the submission of various types of information, certifications, or comments or actions by the Department discussed below refer to the number of calendar days from the applicable starting date.

Notice of No Sales

Under 19 CFR 351.213(d)(3), the Department may rescind a review where there are no exports, sales, or entries of subject merchandise during the respective period of review (“POR”) listed below. If a producer or exporter named in this notice of initiation had no exports, sales, or entries during the POR, it must notify the Department within 60 days of publication of this notice in the Federal Register. The Department will consider rescinding the review only if the producer or exporter, as appropriate, submits a properly filed and timely statement certifying that it had no exports, sales, or entries of subject merchandise during the period of review. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street & Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the period of review (“POR”). We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2,1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register. In responding to the certification, please follow the “Instructions for Filing the Certification” in the Separate Rate Certification. Separate Rate Certifications are due to the Department no later than 60 days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceedings (e.g., an ongoing administrative review, new shipper review, etc.) and entities that lost their separate rate in the most recently complete segment of the proceeding in which they participated.

² Only changes to the official company name, rather than trade names, need to be addressed via a Separate Rate Application. Information regarding new trade names may be submitted via a Separate Rate Application.

For exporters and producers who submit a separate-rate status application or certification and subsequently are selected as mandatory respondents, these exporters and producers will no longer be eligible for separate-rate status unless they respond to all parts of the questionnaire as mandatory respondents.

Initiation of Reviews

In accordance with section 19 CFR 351.221(c)(1)(i), we are initiating administrative reviews of the following antidumping and countervailing duty orders and findings. We intend to issue the final results of these reviews not later than October 31, 2011.

| Period to be reviewed
Antidumping Duty Proceedings
Mexico: Carbon and Certain Alloy Steel Wire Rod A-201-830 | 10/1/09-9/30/10.
Aceros San Luis S.A. de C.V.
Altos Hornos de Mexico S.A. de C.V.
Arcelor Mittal Las Truchas, S.A. de C.V.
DeAcero de C.V.
Siderurgica Lazaro Cadenas Las Truchas S.A. de C.V. (SICARTSA).
Talleres y Aceros S.A. de C.V.
Ternium Mexico S.A. de C.V. (formerly known as Hylsa S.A. de C.V. and Hylsa Puebla S.A. de C.V. (Hylsa))
The People's Republic of China: Kitchen Appliance Shelving and Racks 3 4 A-570-941 | 3/5/09-8/31/10.
Asia Pacific CIS (Wuxi) Co., Ltd.
Hengtong Hardware Manufacturing (Huizhou) Co., Ltd.
The People's Republic of China: Steel Wire Garment Hangers ⁵ A-570-918 | 10/1/09-9/30/10.
Angang Clothes Rack Manufacture Company Limited.
Bazhou Sanqiang Furniture Co., Ltd.
Bestallied International Corp.
Bestluck Enterprise Limited.
Blue Mountain Imp Exp Co Ltd.
Bon Voyage Logistics Inc.
Butler Courtesy (Guilin) Inc.
C Import and Export (Hong Kong) Co., Ltd.
Century Distribution System (Shenzhen) Ltd.
Changzhou Fortune Handicraft Co., Ltd.
Changzhou MC Imp. & Exp. Co. Ltd. a/k/a Changzhou MC IE Co., Ltd.
China Fujian Minhou Shenghua Handicrafts Co., Ltd.
China Ningbo Wahfay Industrial (Group) Co., Ltd.
CTN Limited Company
CTO International Co. Ltd.
Eagle Brand Holdings Limited.
Ecocom Crafts Co., Ltd. a/k/a Hangzhou Ecocom Crafts Co., Ltd.
Eisho Co., Ltd. a/k/a Eisho Hanger Co., Ltd.
Fujian Pucheng Breese Home Products, Inc.
Good Wonder Limited.
Guangdong Machinery Imp. & Exp. Co.
Guangdong Provincial Taoyue Mfg. Co., Ltd.
Guangxi Yikai Industry and Trade Co., Ltd.
Guangzhou Haojin Motorcycle Company
Guangzhou Zhoucheng Plastic Co., Ltd.
Guilin Betterall Household Articles Co., Ltd.
Guilin Harvest Co., Ltd.
Guilin Jinlai Imp. & Exp. Co., Ltd.
Guilin Yusense Home Collection Co., Ltd.
Haimen Jinhang Business Trading Co.
Haiyan Lianxiang Hardware Products Co.
Hangzhou Dunli Import & Export Co.
Hanji Metals and Plastics Crafts Co.
HD Supply Shenzhen.
Hezhou City Yaolong Trade Co Ltd.
Jiahe International Trading Co.
Jiangmen Masters Hardware Products.
Jiangsu Y and S Inc.
Jiangyin Hongji Metal Products Co., Ltd.
Jiaxing Boyi Medical Device Co.
K.O.D Solutions Limited Dongguan Office.
Kingtex Imp & Exp Co., Ltd.
Laidlaw Company LLC.
Mainfreight Int'l Logistics (Shanghai) Co. Ltd.
Maxplus Industries Co., Ltd.
Nanjing Feisike Import & Export Trading Co. Ltd.
Ningbo Beilun Huafa Metal Products
Ningbo Dasheng Hanger Ind. Co., Ltd.
Ningbo Everun International Limited.
Ningbo First Rank International Co.
Ningbo Home-Dollar Imp. & Exp. Corp.
Ningbo Hongdi Measuring Tape Co., Ltd.
Ningbo Municipal Xinyu Imp. & Exp. Co.
Ningbo Wellway Imp. & Exp. Co., Ltd.
Overseas Int'l Group Corp.
Plastic Intercon Co., Ltd.
Pujiang County Command Metal Products Co., Ltd.
Quyky Yanglei International Co., Ltd. a/k/a Quyky Group.
Shandong Autjinrong Found-assemble Co., Ltd.
Shanghai Cheertie Display Fixture.
Shanghai Electric Imp. & Exp. Co., Ltd.
Shanghai Hua Yue Packaging Products
Shanghai International Trade Transportation Co., Ltd.
Shanghai International Trade Yee Da Imp. & Ex. Co., Ltd.
Shanghai New Union Textra Import & Export Co., Ltd.
Shanghai Overseas Enterprises Co. Ltd.
Shanghai Textile Raw Materials.
Shanghai Wells Hanger Co., Ltd.
Shanghai Wintex Import & Export Co., Ltd.
Shangyu Baoxiang Metal Manufactured Co., Ltd.
Shaoxing Amazon Prime Trade Co., Ltd.
Shaoxing Andrew Metal Manufactured.
Shaoxing Dingli Metal Clotheshorse Co., Ltd.
Shaoxing Gangyuan Metal Manufacture.
Shaoxing Guochao Metallic Products Co., Ltd.
Shaoxing Kinglaw Metal Products Co., Ltd.
Shaoxing Liangbao Metal Manufactured Co., Ltd.
Shaoxing Meideli Metal Hanger Co., Ltd.
Shaoxing Shunji Metal Clotheshorse Co., Ltd.
Shaoxing Tongzhou Metal Manufactured Co., Ltd.
Shaoxing Zhongbao Metal Manufactured Co., Ltd.
Shenzhen He Zhenglong Imp. & Exp. Co. Ltd., a/k/a Shenzhen He Zhong Long Imxp
Shenzhen SED Industry Co., Ltd. a/k/a Shenzhen Sed Electronics Co.
Sunny Metal Inc.
Taishan Jinji Hangers Co., Ltd.
Taizhou Huasheng Wooden Co., Ltd.
Tianjin Tailai Imp & Exp Co., Ltd.
Transtek Automotive Products Co. Ltd.
Tri-star Trading Co.
Uasha Group International Shanghai Ltd.
Universal Houseware (Dongguan)
Wenzhou N. & A. Foreign Trade Corp.
Wenzhou Pan Pacific Foreign Trade Co., Ltd.
Wesken International (Kunshan) Co., Ltd.
World Trading Service Limited.
X&Y Papa-Fix Industry Limited.
Yiwu Ao-Si Metal Products Co., Ltd.
Zhangjiagang Maohua Coating & Adorn
Zhejiang Arts and Crafts Import.
Zhejiang Huamao International Co., Ltd.
Zhejiang Lucky Cloud Hanger Co., Ltd.
Zhejiang Wenzhou Packaging Imp. & Exp.
Countervailing Duty Proceedings
The People's Republic of China: Kitchen Appliance Shelving and Racks ⁶ C-570-942 | 1/7/09-12/31/09
Asia Pacific CIS (Wuxi) Co., Ltd.
Hengtong Hardware Manufacturing (Huizhou) Co., Ltd.
Suspension Agreements
None.

³ If one of the above named companies does not qualify for a separate rate, all other exporters of Kitchen Appliance Shelving and Racks from the PRC who have not qualified for a separate rate are deemed to be covered by this review as part of the single PRC entity of which the named exporters are a part.

⁴ In the notice of initiation for September anniversary cases, published in the Federal Register on October 28, 2008 (75 FR 66349) and corrected on November 10, 2010 (75 FR 69054), the Department postponed initiation of five companies. We have determined to initiate on two of the companies (listed above). Regarding the three additional companies, the Department does not conduct administrative reviews to investigate transshipment allegations. See Globe Metallurgical Inc. v. United States, Slip Op. 10-100 (Ct. Int'l Trade Sept. 1, 2010). Petitioners (SSW Holding Company, Inc. and Nashville Wire Products, Inc.) have not provided any reason, other than potential transshipment of subject merchandise, for requesting a review of these three additional companies. Therefore, we are not initiating a review with respect to the following companies: Asia Pacific CIS (Thailand) Co., Ltd.; Taiwan Rail Company; and King Shan Wire Co., Ltd.

⁵ If one of the above-named companies does not qualify for a separate rate, all other exporters of Steel Wire Garment Hangers from the PRC who have not qualified for a separate rate are deemed to be covered by this review as part of the single PRC entity of which the named exporter is a part.

⁶ In the notice of initiation for September anniversary cases, published in the Federal Register on October 28, 2008 (75 FR 66349) and corrected on November 10, 2010 (75 FR 69054), the Department postponed initiation of five companies. We have determined to initiate on two of the companies (listed above). Regarding the three additional companies, the Department does not conduct administrative reviews to investigate transshipment allegations. See Globe Metallurgical Inc. v. United States, Slip Op. 10-100 (Ct. Int'l Trade Sept. 1, 2010). Petitioners (SSW Holding Company, Inc. and Nashville Wire Products, Inc.) have not provided any reason, other than potential transshipment of subject merchandise, for requesting a review of these three additional companies. Therefore, we are not initiating a review with respect to the following companies: Asia Pacific CIS (Thailand) Co., Ltd.; Taiwan Rail Company; and King Shan Wire Co., Ltd.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable for the POR.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of intiation. Parties wishing to participate in any of these administrative reviews should ensure that they meet the requirements of these procedures (e.g., the filing of separate letters of appearance as discussed in 19 CFR 351.103(d)).

These initiations and this notice are in accordance with section 751(a) of the Tariff Act of 1930, as amended (19 U.S.C. 1675(a)), and 19 CFR 351.221(c)(1)(i).

Dated: November 22, 2010.
Susan H. Kuhbach,
Acting Deputy Assistant Secretary for Antidumping and Countervailing Duty Operations.

[FR Doc. 2010-29970 Filed 11-26-10; 8:45 am]

BILLING CODE 3510-DS-P